DEPARTMENT OF HEALTH AND HUMAN SERVICES

Administration for Children and Families

45 CFR Part 1355

RIN 0970-AC76

Adoption and Foster Care Analysis and Reporting System

AGENCY: Children's Bureau (CB), Administration on Children Youth and Families (ACYF), Administration for Children and Families (ACF), Department of Health and Human Services (HHS).

ACTION: Notice of Proposed Rulemaking; correction.

SUMMARY: This document corrects the Regulatory Identification Number (RIN) that appeared in the heading of a Notice of Proposed Rulemaking published in the Federal Register of March 15, 2018. Through that document, the Children's Bureau proposed to delay the compliance and effective dates in the Adoption and Foster Care Analysis and Reporting System (AFCARS) 2016 final rule for title IV-E agencies to comply with agency rules for an additional two fiscal years.

DATES: April 26, 2018.

SUPPLEMENTARY INFORMATION: In the Notice of Proposed Rulemaking FR Doc 2018-05038, beginning on page 11450 in the issue of March 15, 2018, the RIN appeared incorrectly in the heading of the document as RIN 0970-AC47. The RIN is corrected to read “RIN 0970-AC76”.

Dated: April 20, 2018.
Ann C. Agnew,
Executive Secretary to the Department, Department of Health and Human Services.

[FR Doc. 2018-08736 Filed 4-25-18; 8:45 am]

BILLING CODE 4184-25-P